NATIONAL AERONAUTICS AND SPACE ADMINISTRATION

[Notice: 23-112]

NASA Advisory Council; Human Exploration and Operations Committee

AGENCY: National Aeronautics and Space Administration.

ACTION: Notice of meeting.

SUMMARY: In accordance with the Federal Advisory Committee Act, the National Aeronautics and Space Administration (NASA) announces a meeting of the Human Exploration and Operations Committee of the NASA Advisory Council (NAC). This Committee reports to the NAC.

DATES: Friday, November 17, 2023, 9 a.m. to 3 p.m.; and Monday, November 20, 2023, 9 a.m. to 4:30 p.m. All times are eastern time.

ADDRESSES: Public attendance will be virtual only. See dial-in and Webex information below under SUPPLEMENTARY INFORMATION.

FOR FURTHER INFORMATION CONTACT: Dr. Bette Siegel, Designated Federal Officer, Human Exploration and Operations Committee, NASA Headquarters, Washington, DC 20546, via email at bette.siegel@nasa.gov or 202-358-2245.

SUPPLEMENTARY INFORMATION: As noted above, this meeting will be available to the public via Webex and telephonically. Webex connectivity information is provided below. For audio, when you join the Webex event, you may use your computer or provide your phone number to receive a call back, otherwise, call the U.S. toll conference number listed.

On November 17, the event address for attendees is: https://nasaenterprise.webex.com/nasaenterprise/j.php?MTID=mde213f73124d28623e6f87080ef007e5.

The event number is 2760 298 4582 and the event password is Kzfr88Mef3$. If needed, the U.S. toll conference number is 1-929-251-9612 or 1-415-527-5035 and access code is 2760 298 4582 and password is 59378863.

The agenda for the meeting includes the following topics:

—Exploration Systems Development Mission Directorate Status

—Moon to Mars

—Strategy and Architecture

On November 20, the event address for attendees is: https://nasaenterprise.webex.com/nasaenterprise/j.php?MTID=m5b8c7a6f8cce36e7e36e3cb560959a71.

The event number: 2762 899 7482 and the event password: bnZydZM*683. If needed, the U.S. toll conference number is 1-929-251-9612 or 1-415-527-5035 and access code is 2762 899 7482 and password is 26993960.

The agenda for the meeting includes the following topics:

—Space Operations Mission Directorate Status

—International Space Station Update

—Commercial Crew

—Commercial LEO Development/Commercial Space Stations

—Space Communications and Navigation

—Launch Services

It is imperative that these meeting be held on these days to accommodate the scheduling priorities of the key participants.

Patricia Rausch,
Advisory Committee Management Officer, National Aeronautics and Space Administration.

[FR Doc. 2023-24549 Filed 11-6-23; 8:45 am]

BILLING CODE 7510-13-P